DEPARTMENT OF THE TREASURY

Submission for OMB Review; Comment Request

June 20, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before July 26, 2006 to be assured of consideration.

Internal Revenue Service (IRS)

OMB Number: 1545-1814.

Type of Review: Extension.

Title: Changes in Corporate Control and Capital Structure.

Form: Form 1099-CAP.

Description: Any corporation that undergoes reorganization under Regulation section 1.6043-4T with stock, cash, and other property over $100 million must file Form 1099-CAP with the IRS shareholders.

Respondents: Business or other for-profit and Individuals or households.

Estimated Total Burden Hours: 67 hours.

OMB Number: 1545-1843.

Type of Review: Extension.

Title: REG-106736-00 (NPRM) Assumptions of Partner Liabilities.

Description: In order to be entitled to a deduction with respect to the economic performance of a contingent liability that was contributed by a partner and assumed by a partnership, the partnership, or former partner of the partnership, must receive notification of economic performance of the contingent liability from the partnership or other partner assuming the liability.

Respondents: Individuals or households; Business or other for-profit.

Estimated Total Burden Hours: 125 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Michael A. Robinson,
Treasury PRA Clearance Officer.

[FR Doc. E6-10011 Filed 6-23-06; 8:45 am]

BILLING CODE 4830-01-P